DEPARTMENT OF ENERGY

Federal Energy Regulatory Commission

[Docket No. RP00-403-001]

Northern Border Pipeline Company; Notice of Compliance Filing

October 22, 2001.

Take notice that on October 15, 2001, Northern Border Pipeline Company (Northern Border) tendered for filing as part of its FERC Gas Tariff, Pro Forma First Revised Volume No. 1, the pro forma tariff sheets listed in Appendix A to the filing.

Northern Border states that the pro forma tariff sheets are being filed in compliance with the Commission's Order No. 637 issued in Docket Nos. RM98-10-000 and RM98-12-000 issued May 19, 2000.

Northern Border states that it has served copies of the pro forma filing upon all parties of record in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-26973 Filed 10-25-01; 8:45 am]

BILLING CODE 6717-01-P